Title 3—

The President

Proclamation 8964 of April 26, 2013

Workers Memorial Day, 2013

By the President of the United States of America

A Proclamation

Our country boasts the world's most talented, driven, effective labor force. American workers power our homes and feed our families. They raise skyscrapers, transport goods to market, and manufacture products that are the envy of the world. Together, they form the backbone of our economy. As a Nation, we have an obligation to protect the men and women who perform these vital tasks. Yet tragically, thousands of American workers die on the job each year, and millions more suffer work-related injuries or illnesses. On Workers Memorial Day, we honor them, and we reaffirm that no one should have to put their life on the line to bring home a paycheck.

At the turn of the 20th century, laborers faced hazardous conditions. Factory doors were locked from the outside, which prevented quick evacuation in emergencies. A combination of shoddy equipment and fatigue from long shifts made serious injury and death all too common. Career-ending injuries often led to poverty and starvation.

From mine shafts to railroads to factory floors, workers began to speak out. Thanks to generations of union organizers and advocates, conditions slowly improved. But it was not until decades later that our laws assured the right to a safe workplace. The Federal Coal Mine Health and Safety Act of 1969 established comprehensive health and safety standards for the mining industry, and the Occupational Safety and Health Act of 1970 enacted similar standards for all workers. These statutes remain the cornerstone of our protections today, and my Administration remains committed to enforcing them by ensuring workers know their rights, worksites comply with the law, and wrongdoers are held accountable.

Today, our thoughts and prayers are with all those who have lost a loved one to a workplace accident or work-related illness. But we owe them more than prayers. We owe them action and accountability. While we cannot eliminate all risk from the world's most dangerous professions, we can guarantee that when a worker steps up to an assembly line or into a mine shaft, their country stands alongside them, protecting their safety and their stake in the American dream.

NOW, THEREFORE, I, BARACK OBAMA, President of the United States of America, by virtue of the authority vested in me by the Constitution and the laws of the United States, do hereby proclaim April 28, 2013, as Workers Memorial Day. I call upon all Americans to participate in ceremonies and activities in memory of those killed or injured due to unsafe working conditions.

IN WITNESS WHEREOF, I have hereunto set my hand this twenty-sixth day of April, in the year of our Lord two thousand thirteen, and of the Independence of the United States of America the two hundred and thirty-seventh.

[FR Doc. 2013-10447

Filed 4-30-13; 11:15 am]

Billing code 3295-F3